DEPARTMENT OF DEFENSE

Department of the Army

Privacy Act of 1974; System of Records

AGENCY: Department of the Army, DoD.

ACTION: Notice to alter a system of records.

SUMMARY: The Department of the Army is altering a system of records notice in its existing inventory of record systems subject to the Privacy Act of 1974, (5 U.S.C. 552a), as amended. The alteration consists of adding new records being maintained and adding two new purposes to the existing system of records.

DATES: This proposed action will be effective without further notice on September 4, 2003, unless comments are received which result in a contrary determination.

ADDRESSES: Army Systems of Records Notices Manager, Department of Army Freedom of Information and Privacy Acts Office, 7798 Cissna Road, Suite 205, Springfield, VA 22153-3166.

FOR FURTHER INFORMATION CONTACT: Ms. Janice Thornton at (703) 806-7137.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on July 17, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 29, 2003.
Patricia Toppings,
Alternate OSD Federal Register Liaison Officer, Department of Defense.

A0027-10a DAJA

System name:

Prosecutorial Files (December 8, 2000, 65 FR 77008).

Changes

* * * * *

System name:

Delete entry and replace with ‘Military Justice Files’.

* * * * *

Categories of individuals covered by the system:

Delete entry and replace with ‘Any individual who is the subject of a military justice investigation, trial by courts-martial, or other administrative or disciplinary proceeding.’

Categories of records in the system:

Add to the end of the entry ‘Non-judicial punishment (Article 15) actions: administrative separation actions; suspension of favorable personnel actions; Trial Defense Service and trial defense counsel personnel information, and attorney work-product, Trial judiciary personnel information, dockets; and trial records; Army Court of Criminal Appeals, judicial orders, and opinions; and all other documents related to the administration of Military Justice, administrative separations, memoranda of reprimand, and investigations.’

* * * * *

Purpose(s):

Add to the end of the first paragraph ‘; and to provide support for non-judicial and other administrative or disciplinary proceedings.’

Add a new paragraph ‘Records will be used to conduct statistical studies for assisting The Judge Advocate General and servicing Staff Judge Advocates in the management and administration of military justice.’

* * * * *

Retrievability:

Add to entry ‘Social Security Number’.

Safeguards:

Delete entry and replace with ‘Paper records are located in file cabinets and electronic records are located in the worldwide eJustice computer database. Computerized records are maintained in controlled areas accessible only to authorized personnel. In addition, automated files are password protected and in compliance with the applicable laws and regulations. Information located in file cabinets is accessible only to authorized personnel who are properly instructed in the permissible use. The files are not accessible to the public or to persons within the command without an official need to know. Some file cabinets have locking capabilities. Offices are locked during non-work hours.’

* * * * *

A0027-10a DAJA

System name:

Military Justice Files.

System location:

Primary location: Office of The Judge Advocate General, Headquarters, and Department of the Army, Washington, DC 20310-2200.

Secondary locations: Staff Judge Advocate Offices at major Army commands, field operating agencies, installations and activities Army-wide. Official mailing addresses are published as an appendix to the Army’s compilation of systems of records notices.

Categories of individuals covered by the system:

Any individual who is the subject of a military justice investigation, trial by courts-martial, or other administrative or disciplinary proceeding.

Categories of records in the system:

Witness statements; pretrial advice; documentary evidence; exhibits, evidence of previous convictions; personnel records; recommendations as to the disposition of the charges; explanation of any unusual features of the case; charge sheet; and criminal investigation reports; convening orders; appointment orders; investigative reports of federal, state, and local law enforcement agencies; local command investigations; immunity requests; search authorizations; general correspondence; legal research and memoranda; motions; forensic reports; pretrial confinement orders; personal, financial, and medical records; report of Article 32, UCMJ investigations; subpoenas; discovery requests; correspondence reflecting pretrial negotiations; requests for resignation or discharge in lieu of trial by court-martial; results of trial memoranda; and forms to comply with the Victim and Witness Assistance Program, the Sexual Assault Prevention and Response Program and the Victim's Rights and Restitution Act of 1990. Non-judicial punishment (Article 15) actions: administrative separation actions; suspension of favorable personnel actions; Trial Defense Service and trial defense counsel personnel information, and attorney work-product, Trial judiciary personnel information, dockets; and trial records; Army Court of Criminal Appeals, judicial orders, and opinions; and all other documents related to the administration of Military Justice, administrative separations, memoranda of reprimand, and investigations.

Authority for maintenance of the system:

10 U.S.C. 3013, Secretary of the Army; 42 U.S.C. 10606 et seq., Victims' Rights; Department of Defense Directive 1030.1, Victim and Witness Assistance; Army Regulation 27-10, Military Justice and E.O. 9397 (SSN).

Purpose(s):

To prosecute or otherwise resolve military justice cases; to obtain information and assistance from federal, state, local, or foreign agencies, or from individuals or organizations relating to an investigation, allegation of criminal misconduct, or court-martial; and to provide information and support to victims and witnesses in compliance with Victim and Witness Assistance Statutes and regulations; and to provide support for non-judicial and other administrative or disciplinary proceedings. Records will be used to conduct statistical studies for assisting The Judge Advocate General and servicing Staff Judge Advocates in the management and administration of military justice.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information from this system of records may be disclosed to law students participating in a volunteer legal support program approved by The Judge Advocate General of the Army.

To victims and witnesses of a crime for purposes of providing information, consistent with the requirements of the Victim and Witness Assistance Program, regarding the investigation and disposition of an offense.

To attorney licensing and/or disciplinary authorities as required to support professional responsibility investigations and proceedings.

The DoD ‘Blanket Routine Uses’ set forth at the beginning of the Army's compilation of systems of records notices also apply to this system.

Policies and practices for storing, retrieving, accessing, retaining, and disposing of records in the system:

Storage:

Paper records in file folders and electronic storage media.

Retrievability:

Retrieved by individual's surname and Social Security Number.

Safeguards:

Paper records are located in file cabinets and electronic records are located in the worldwide eJustice computer database. Computerized records are maintained in controlled areas accessible only to authorized personnel. In addition, automated files are password protected and in compliance with the applicable laws and regulations. Information located in file cabinets is accessible only to authorized personnel who are properly instructed in the permissible use. The files are not accessible to the public or to persons within the command without an official need to know. Some file cabinets have locking capabilities. Offices are locked during non-work hours.

Retention and disposal:

Records are destroyed two years after final review/appellate action.

System manager(s) and address:

Chief, Criminal Law Division, Office of The Judge Advocate General, 2200 Army Pentagon, Washington, DC 20310-2200.

Notification procedure:

Individuals seeking to determine whether information about themselves is contained in this system should address written inquiries to the Chief, Criminal Law Division, Office of The Judge Advocate General, 2200 Army Pentagon, Washington, DC 20310-2200.

Individual should provide his/her full name, current address and telephone number, case number and office symbol of Army element which furnished correspondence to the individual, other personnel identifying data that would assist in locating the records. The inquiry must be signed.

Record access procedures:

Individuals seeking access to information about themselves contained in this system should address written inquiries to the Chief, Criminal Law Division, Office of The Judge Advocate General, 2200 Army Pentagon, Washington, DC 20310-2200.

Individual should provide his/her full name, current address and telephone number, case number and office symbol of Army element which furnished correspondence to the individual, other personal identifying data that would assist in locating the records. The inquiry must be signed.

Contesting record procedures:

The Army's rules for accessing records, and for contesting contents and appealing initial agency determinations are contained in Army Regulation 340-21; 32 CFR part 505; or may be obtained from the system manager.

Record source categories:

From official Army records and reports, investigative documents, law enforcement agencies; Court-martial, Article 32; UCMJ investigations; convening authorities; Federal, state, and local law enforcement agencies; witness interviews; personnel, financial, and medical records; medical facilities; financial institutions; information provided by the defense/accused; and the attorney work-product and other individuals assisting them on a particular case; non-judicial (Article 15) punishment documents; and administrative separation action documents and memoranda of reprimand.

Exemptions claimed for the system:

Parts of this system may be exempt pursuant to 5 U.S.C. 552a(j)(2) if the information is compiled and maintained by a component of the agency, which performs as its principle function any activity pertaining to the enforcement of criminal laws.

An exemption rule for this exemption has been promulgated in accordance with requirements of 5 U.S.C. 553(b)(1), (2), and (3), (c) and (e) and published in 32 CFR part 505. For additional information contact the system manager.

[FR Doc. 03-19874 Filed 8-4-03; 8:45 am]

BILLING CODE 5001-08-P